DEPARTMENT OF DEFENSE

Office of the Secretary

[Docket ID DoD-2021-OS-0071]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 21, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela Duncan at the Department of Defense, Washington Headquarters Services, ATTN: Executive Services Directorate, Directives Division, 4800 Mark Center Drive, Suite 03F09-09, Alexandria, VA 22350-3100 or call 571-372-7574.

SUPPLEMENTARY INFORMATION: Title; Associated Form; and OMB Number: Record of Military Processing—Armed Forces of the United States; DD Form 1966/USMEPCOM FORM 680-3A-E; OMB Control Number 0704-0173.

Needs and Uses: Title 10 U.S. Code, Sections 504, 505, 508, and 1012, Title 14, U.S. Code, Sections 351 and 632; and Title 50 U.S. Code, Appendix Section 451, and E.O. 9397 require applicants to meet standards for enlistment into the Armed Forces. This information collection is the basis for determining eligibility of applicants for enlistment in the Armed Forces and is needed to verify data given by the applicant and to determine his/her qualification of enlistment. The information collected aids in the determination of qualifications, terms of service, and grade in which a person, if eligible, will enter active duty or reserve status. The information collected is used to feed other DoD and service-specific forms that later would be used to issue identification cards and receive benefits associated with military service.

Affected public: Individuals or households.

Annual Burden Hours: 296,100 hours.

Number of Respondents: 423,000.

Responses per Respondent: 2.

Annual Responses: 846,000.

Average Rurden per Response: 21 minutes.

Frequency: On occasion.

Dated: July 20, 2021.
Aaron T. Siegel,
Alternate OSD Federal Register Liaison Officer, Department of Defense.

[FR Doc. 2021-15772 Filed 7-22-21; 8:45 am]

BILLING CODE 5001-06-P